ENVIRONMENTAL PROTECTION AGENCY

[FRL-6927-9]

Meeting of the Mobile Sources Technical Review Subcommittee

AGENCY: Environmental Protection Agency (EPA).

ACTION: Notice of meeting.

SUMMARY: Pursuant to the Federal Advisory Committee Act, Public Act, Public Law 92-463, notice is hereby given that the Mobile Sources Technical Review Subcommittee of the Clean Air Act Advisory Committee will meet in a regular quarterly session. This is an open meeting. The theme will be “Miscellaneous.” The meeting may include presentations on EPA's Mobile6 and the New Generation Model, the Diesel Fuel Analysis Program, the Diesel Retrofit Program and a demonstration of EPA's new auto emissions website. The preliminary agenda for this meeting and draft minutes from the previous one are available from the Subcommittee's website at: www.epa.gov/oar/caaac/mobile_sources-caaac.html

DATES: The meeting will be held on Wednesday, January 17, 2001 from 9 am. to 3:30 pm. Registration begins at 8:30 am.

ADDRESSES: The meeting will be held at the Holiday Inn Select, 480 King Street, Old Town Alexandria, VA 22314.

FOR FURTHER INFORMATION CONTACT:

For technical information: Ms. Cheryl L. Hogan, Alternate Designated Federal Officer, Certification and Compliance Division, U.S. EPA, 2000 Traverwood Drive, Ann Arbor, MI 48105, Ph: 734/214-4402, FAX: 734/214-4053, email: hogan.cheryl@epa.gov.

For logistical and administrative information: Ms. Mary F. Green, FACA Management Officer, U.S. EPA, 2000 Traverwood Drive, Ann Arbor, Michigan, Ph: 734/214-4411, Fax: 734/214-4053, email: green.mary@epa.gov.

Background on the work of the Subcommittee is available at: http://transaq.ce.gatech.edu/epatac.

For more current information: www.epa.gov/oar/caaac/mobile_sources-caaac.html.

Individuals or organizations wishing to provide comments to the Subcommittee should submit them to Ms. Hogan at the address above by January 10, 2001. The Mobile Sources Technical Review Subcommittee expects that public statements presented at its meetings will not be repetitive of previously submitted oral or written statements.

SUPPLEMENTARY INFORMATION: During this meeting, the Subcommittee may also hear progress reports from some of its workgroups as well as updates and announcements on activities of general interest to attendees, e.g., status of relevant EPA regulations and an update on the reorganization of the Office of Transportation and Air Quality.

Dated: December 27, 2000.
Donald E. Zinger,
Acting Director, Office of Transportation and Air Quality.

[FR Doc. 01-115 Filed 1-2-01; 8:45 am]

BILLING CODE 6560-50-P